SMALL BUSINESS ADMINISTRATION

Data Collection Available for Public Comments

ACTION: 60-Day notice and request for comments.

SUMMARY: In accordance with the Paperwork Reduction Act of 1995, this notice announces the Small Business Administration's intentions to request approval on a new and/or currently approved information collection.

DATES: Submit comments on or before February 18, 2014.

ADDRESSES: Send all comments regarding whether this information collection is necessary for the proper performance of the function of the agency, whether the burden estimates are accurate, and if there are ways to minimize the estimated burden and enhance the quality of the collection, to Mary Frias, Loan Specialist, Office of Financial Assistance, Small Business Administration, 409 3rd Street, 8th Floor, Washington, DC 20416.

FOR FURTHER INFORMATION CONTACT: Mary Frias, Loan Specialist, 202-401-8234, mary.frias@sba.gov; Curtis B. Rich, Management Analyst, 202-205-7030, curtis.rich@sba.gov.

Title: “Intermediary Lending Pilot Program Application and Reporting Requirements”.

Abstract: SBA has established a pilot loan program, the Intermediary Lending Pilot Program (ILPP), to make direct loans to eligible intermediaries, for the purpose of making loans to startup, newly established, and growing small business concerns. This requested information, which will be provided by intermediaries that wish to participate in ILPP, will be used to select ILPP intermediaries, to monitor disbursement of ILPP loan proceeds, and to monitor program effectiveness while minimizing risk to the federal taxpayer.

Form Number's: 2417, 2418.

Annual Responses: 840.

Annual Burden: 10,520.

Curtis Rich,
Management Analyst.

[FR Doc. 2013-30062 Filed 12-17-13; 8:45 am]

BILLING CODE 8025-01-P